DEPARTMENT OF ENERGY

Federal Energy Regulatory Commission

[Docket No. ER02-338-001, et al.]

Portland General Electric Company, et al.; Electric Rate and Corporate Regulation Filings

January 29, 2002.

Take notice that the following filings have been made with the Commission. Any comments should be submitted in accordance with Standard Paragraph E at the end of this notice.

[Docket No. ER02-338-001]

1. Portland General Electric Company

Take notice that on January 24, 2002, Portland General Electric Company (PGE) filed with the Federal Energy Regulatory Commission (Commission) amendments to its revised tariff sheets to its Open Access Transmission Tariff and certain information requested by the Commission regarding its proposed energy imbalance charge in the above-referenced proceeding.

PGE requests that the Commission make the amended tariff sheets effective as of March 1, 2002.

Comment Date: February 14, 2002.

[Docket No. ER02-698-001]

2. Pleasants Energy, LLC

Take notice that on January 24, 2002, Pleasants Energy, LLC filed an Amended Service Agreement No. 1 with Dominion Nuclear Marketing I, Inc., and Dominion Nuclear Marketing II, Inc., under FERC Electric Tariff, Original Volume No.1.

Pleasants Energy, LLC requests an effective date for the Amended Service Agreement No. 1 of December 5, 2001, the date requested in Docket No. ER02-698-000. Copies of the filing were served upon the Virginia State Corporation Commission, the North Carolina Utilities Commission, and the Public Service Commission of West Virginia.

Comment Date: February14, 2002.

[Docket No. ER02-818-000]

3. LG&E Capital Trimble County LLC

Take notice that on January 24, 2002, LG&E Trimble County LLC, (TCLC) submitted for filing, pursuant to section 205 of the Federal Power Act, and Part 35 of the Federal Energy Regulatory Commission (Commission) regulations, an application for authorization to engage in the sale of electric energy and capacity at market-based rates, waiver of certain Commission regulations, and certain blanket approvals under such regulations. TCLC proposes, among other things, to own, operate and sell the power output from two 152 megawatt combustion turbine electric units located in Trimble County, Kentucky.

Comment Date: February 14, 2002.

[Docket No. ER02-819-000]

4. Entergy Services, Inc.

Take notice that on January 24, 2002, Entergy Services, Inc. (Entergy Services), on behalf of Entergy Arkansas, Inc (Entergy Arkansas), tendered for filing a First Revised Long-Term Market Rate Sales Agreement between Entergy Arkansas and City of Benton, Arkansas for the sale of power under Entergy Services' Rate Schedule SP.

Comment Date: February 14, 2002.

[Docket No. ER02-820-000]

5. Pedricktown Energy, Inc.

Take notice that on January 24, 2002, Pedricktown Energy, Inc. (Peddricktown) tendered for filing with the Federal Energy Regulatory Commission (Commission) an application for an order accepting its FERC Electric Rate Schedule No. 1, granting certain blanket approvals, including the authority to sell electricity at market-based rates, and waiving certain regulations of the Commission. Pedricktown requested expedited Commission consideration. Pedricktown requested that its Rate Schedule No. 1 become effective upon the earlier of the date the Commission authorizes market-based rate authority, or 30-days from the date of this filing. Pedricktwon also filed its FERC Electric Rate Schedule No. 1.

Comment Date: February 14, 2002.

[Docket No. ER02-821-000]

6. Louisville Gas and Electric Company/Kentucky Utilities Company

Take notice that on January 24, 2002, Louisville Gas and Electric Company (LG&E)/Kentucky Utilities (KU) (hereinafter Companies) tendered for filing an unexecuted unilateral transmission service agreement with LG&E Energy Services. This agreement allows LG&E Energy Services to take firm point-to-point transmission service from LG&E/KU.

Comment Date: February 14, 2002.

[Docket No. ER02-822-000]

7. Louisville Gas and Electric Company/Kentucky Utilities Company

Take notice that on January 24, 2002, Louisville Gas and Electric Company (LG&E)/Kentucky Utilities (KU) (hereinafter Companies) tendered for filing an unexecuted unilateral transmission service agreement with LG&E Energy Services. This agreement allows LG&E Energy Services to take firm point-to-point transmission service from LG&E/KU.

Comment Date: February 14, 2002.

[Docket No. ER02-823-000]

8. Louisville Gas and Electric Company/Kentucky Utilities Company

Take notice that on January 24, 2002, Louisville Gas and Electric Company (LG&E)/Kentucky Utilities (KU) (hereinafter Companies) tendered for filing an unexecuted unilateral transmission service agreement with Cincinnati Gas and Electric Company, PSI Energy, Inc. (Cinergy). This agreement allows Cinergy to take firm point-to-point transmission service from LG&E/KU.

Comment Date: February 14, 2002.

[Docket No. ER02-824-000]

9. Louisville Gas and Electric Company/Kentucky Utilities Company

Take notice that on, Louisville Gas and Electric Company (LG&E)/Kentucky Utilities (KU) (hereinafter Companies) tendered for filing an unexecuted unilateral transmission service agreement with Cincinnati Gas and Electric Company, PSI Energy, Inc. (Cinergy). This agreement allows Cinergy to take firm point-to-point transmission service from LG&E/KU.

Comment Date: February 14, 2002.

[Docket No. ER02-825-000]

10. Louisville Gas and Electric Company/ Kentucky Utilities Company

Take notice that on January 24, 2002, Louisville Gas and Electric Company (LG&E)/Kentucky Utilities (KU) (hereinafter Companies) tendered for filing an unexecuted unilateral transmission service agreement with Dynegy Marketing and Trade (Dynegy). This agreement allows Dynegy to take firm point-to-point transmission service from LG&E/KU.

Comment Date: February 14, 2002.

[Docket No. ER02-826-000]

11. Louisville Gas and Electric Company/ Kentucky Utilities Company

Take notice that on January 24, 2002, Louisville Gas and Electric Company (LG&E)/Kentucky Utilities (KU) (hereinafter Companies) tendered for filing an unexecuted unilateral transmission service agreement with Dynegy Marketing and Trade (Dynegy). This agreement allows Dynegy to take firm point-to-point transmission service from LG&E/KU.

Comment Date: February 14, 2002.

[Docket No. ER02-827-000]

12. PJM Interconnection, L.L.C.

Take notice that on January 24, 2002, PJM Interconnection, L.L.C. (PJM), submitted for filing amendments to the currently effective Reliability Assurance Agreement Among Load Serving Entities (RAA) to provide an exception, for the addition of Rockland Electric Company (Rockland) as a party to the RAA, to the RAA requirement to recalculate the Forecast Pool Requirement and RAA parties' capacity obligations which normally is required whenever an entity becomes a party to the RAA such that the boundaries of the PJM control area are expanded.

PJM requests a waiver of the Commissions' regulations to permit an effective date of March 1, 2002 for the amendments. Copies of this filing were served upon all RAA signatories, Rockland, and each state electric utility regulatory commission in the PJM control area.

Comment Date: February 14, 2002.

13. Wellhead Power Gates, LLC

[Docket No. ER02-828-000]

Take notice that on January 24, 2002, Wellhead Power Gates, LLC (Applicant) tendered for filing under its market-based rate tariff a long-term service agreement with the California Department of Water Resources.

Comment Date: February 14, 2002.

14. Duke Energy Hot Spring, LLC

[Docket No. EG02-78-000]

Take notice that on January 25, 2002, Duke Energy Hot Spring, LLC (Duke Hot Spring) filed an application with the Federal Energy Regulatory Commission (the Commission) for determination of exempt wholesale generator status pursuant to section 32 of the Public Utility Holding Company Act of 1935, as amended, and Part 365 of the Commission's regulations.

Duke Hot Spring states that it is a Delaware limited liability company that will be engaged directly and exclusively in the business of operating all or part of one or more eligible facilities to be located in Hot Spring County, Arkansas. The eligible facilities will consist of an approximately 620 MW natural gas-fired, combined cycle electric generation plant and related interconnection facilities. The output of the eligible facilities will be sold at wholesale.

Comment Date: February 19, 2002.

15. American Transmission Company LLC

[Docket No. ER02-829-000]

Take notice that on January 24, 2002, American Transmission Company LLC (ATCLLC) tendered for filing an executed Distribution-Transmission Interconnection Agreement between ATCLLC and Manitowoc Public Utilities. ATCLLC requests an effective date of June 25, 2001.

Comment Date: February 14, 2002.

16. Midwest Independent Transmission System Operator, Inc.

[Docket No. ER02-830-000]

Take notice that on January 24, 2002, pursuant to section 205 of the Federal Power Act and Section 35.16 of the Commission's regulations, 18 CFR 35.16 (2001), the Midwest Independent Transmission System Operator, Inc. (Midwest ISO) submitted for filing a Notice of Succession for certain Transmission Service Agreements and Network Transmission Service and Operating Agreements held by the Minnesota Power & Light Company (Minnesota Power).

Copies of this filing were sent to all applicable customers under the Minnesota Power Open Access Transmission Tariff by placing a copy of the same in the United States mail, first-class postage prepaid.

Comment Date: February 14, 2002.

17. Wellhead Power Panoche, LLC

[Docket No. ER02-832-000]

Take notice that on January 24, 2002, Wellhead Power Panoche, LLC (Applicant) tendered for filing under its market-based rate tariff a long-term service agreement with the California Department of Water Resources.

Comment Date: February 14, 2002.

18. California Independent System Operator Corporation

[Docket No. ER02-834-000]

Take notice that on January 24, 2002, the California Independent System Operator Corporation (ISO) tendered for filing Second Revised Service Agreement No. 276 Under ISO Rate Schedule No. 1, which is a Participating Generator Agreement (PGA) between the ISO and Delano Energy Company, Inc. The ISO has revised the PGA to update the list of generating units listed in Schedule 1 of the PGA. The ISO requests that the agreement be made effective as of January 4, 2002.

The ISO states that this filing has been served on Delano Energy Company, Inc. and the California Public Utilities Commission.

Comment Date: February 14, 2002.

19. Entergy Services, Inc.

[Docket No. ER02-839-000]

Take notice that on January 25, 2002, Entergy Services, Inc., on behalf of Entergy Arkansas, Inc., tendered for filing the Thirtieth Amendment to the Power Coordination, Interchange and Transmission Service Agreement between Entergy Arkansas, Inc., and Arkansas Electric Cooperative Corporation, dated March 1, 2001. The Thirtieth Amendment modifies Exhibit A to Appendix A of Rate Schedule No. 82 by establishing a new point of delivery.

Comment Date: February 15, 2002.

20. Louisville Gas and Electric Company/Kentucky Utilities Company

[Docket No. ER02-841-000]

Take notice that on January 25, 2002, Louisville Gas and Electric Company (LG&E)/Kentucky Utilities (KU) (hereinafter Companies) tendered for filing an unexecuted unilateral transmission service agreement with LG&E Energy Services This agreement allows LG&E Energy Services to take firm point-to-point transmission service from LG&E/KU.

Comment Date: February 15, 2002.

21. Pinnacle West Capital Corporation

[Docket No. ER02-842-000]

Take notice that on January 25, 2002, Pinnacle West Capital Corporation (PWCC) tendered for filing a Service Agreement, Rate Schedule FERC No. 6, under PWCC's Rate Schedule FERC No. 1 for service to Aha Macav Power Service (AMPS).

A copy of this filing has been served on AMPS.

Comment Date: February 15, 2002.

22. Boston Edison Company

[Docket No. ER02-843-000]

Take notice that on January 25, 2002, Boston Edison Company (Boston Edison) tendered for filing a Related Facilities Agreement between Boston Edison and Mirant Kendall, LLC (Mirant Kendall). Boston Edison requests an effective date of March 26, 2002.

Boston Edison states that it has served a copy of the filing on Mirant Kendall and the Massachusetts Department of Telecommunications and Energy.

Comment Date: February 15, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-2728 Filed 2-4-02; 8:45 am]

BILLING CODE 6717-01-P